DEPARTMENT OF ENERGY

Federal Energy Regulatory Commission

Sunshine Act Meeting Notice

January 13, 2011.

The following notice of meeting is published pursuant to section 3(a) of the government in the Sunshine Act (Pub. L. 94-409), 5 U.S.C. 552b:

AGENCY HOLDING MEETING: Federal Energy Regulatory Commission.

DATE AND TIME: January 20, 2011, 9 a.m. *NOTE—There has been a time change for this meeting only.

PLACE: Room 2C, 888 First Street, NE., Washington, DC 20426.

STATUS: Open.

MATTERS TO BE CONSIDERED: Agenda, *NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

966th—Meeting, Regular Meeting, January 20, 2011, 9 a.m.

Item No. | Docket No. | Company
ADMINISTRATIVE
A-1 | AD02-1-000 | Discussion on RTO/ISO Performance Metrics.
A-2 | AD02-7-000 | Customer Matters, Reliability, Security and Market Operations.
A-3 | AD11-8-000 | Frequency Response Metrics to Assess Requirements for Reliable Integration of Variable Renewable Generation.
ELECTRIC
E-1 | RM04-7-009 | Market-Based Rates for Wholesale Sales of Electric Energy, Capacity and Ancillary Services by Public Utilities.
E-2 | RM10-20-000 | Market-Based Rate Affiliate Restrictions.
E-3 | OMITTED
E-4 | RM08-13-001 | Transmission Relay Loadability Reliability Standard.
E-5 | ER11-2170-000, ER09-408-002, ER09-408-003 | PacifiCorp.
E-6 | ER11-2183-000 | American Electric Power Service Corporation.
E-7 | ER10-1281-001 | Hudson Transmission Partners, LLC.
E-8 | ER10-713-001, ER10-713-002 | PJM Interconnection, L.L.C. and Carolina Power & Light Company.
E-9 | OMITTED
E-10 | OMITTED
E-11 | RD10-6-000, RD09-7-002 | North American Electric Reliability Corporation.
E-12 | OA07-110-003 | NorthWestern Corporation.
E-13 | EL10-64-002 | California Public Utilities Commission.
| EL10-66-002 | Southern California Edison Company, Pacific Gas and Electric Company, San Diego Gas & Electric Company.
E-14 | ER11-2178-000 | Southern California Edison Company.
E-15 | ER11-2177-000 | Southern California Edison Company.
| ER11-2369-000 | California Independent System Operator Corporation.
E-16 | ER11-2074-000 | PJM Interconnection, L.L.C.
E-17 | QM10-4-004 | Public Service Company of New Hampshire.
MULTI-INDUSTRY
M-1 | RM07-9-003 | Revisions to Forms, Statements and Reporting Requirements for Natural Gas Pipelines.
HYDRO
H-1 | P-13653-001 | Claverack Creek, LLC.
H-2 | P-10482-105 | AER NY-Gen, LLC, Eagle Creek Hydro Power, LLC, Eagle Creek Water Resources, LLC, Eagle Creek Land Resources, LLC.
CERTIFICATES
C-1 | CP10-496-000 | Cameron LNG, LLC.
C-2 | CP10-194-000 | Central New York Oil and Gas Company, LLC.
C-3 | CP07-414-002 | Golden Triangle Storage, Inc.
C-4 | CP11-34-000 | Golden Pass Pipeline LLC.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2011-1238 Filed 1-18-11; 4:15 pm]

BILLING CODE 6717-01-P